DEPARTMENT OF HEALTH AND HUMAN SERVICES

National Institutes of Health

Office of the Director, National Institutes of Health; Notice of Meeting

Pursuant to section 10(a) of the Federal Advisory Committee Act, as amended, notice is hereby given of a meeting of the Office of AIDS Research Advisory Council.

The meeting will be open to the public, with attendance limited to space available. Individuals who plan to attend and need special assistance, such as sign language interpretation or other reasonable accommodations, should notify the Contact Person listed below in advance of the meeting. The meeting will be videocast and can be accessed from the NIH Videocasting and Podcasting website (http://videocast.nih.gov/).

Name of Committee: Office of AIDS Research Advisory Council.

Date: March 2, 2023.

Time: 11:00 a.m. to 4:30 p.m.

Agenda: The sixty-second meeting of the Office of AIDS Research Advisory Council (OARAC) will include the OAR Director's Report; presentation and discussions on HIV and Aging, updates from the Clinical Guidelines Working Groups of OARAC; an overview of ARPA-H; updates from NIH HIV-related advisory councils and NIH-wide programs; and public comment.

Place: Office of AIDS Research, 5601 Fishers Lane, Rockville, MD 20852 (Virtual Meeting).

Contact Person: Mary Glenshaw, Ph.D., MPH, OTR/L, Senior Science Advisor, Office of AIDS Research, Office of the Director, National Institutes of Health, 5601 Fishers Lane, Room 2E61, Rockville, MD 20852, (301) 496-0357, OARACInfo@nih.gov.

Any interested person may file written comments with the committee by forwarding the statement to the Contact Person listed on this notice. The statement should include the name, address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: February 1, 2023.
Melanie J. Pantoja,
Program Analyst, Office of Federal Advisory Committee Policy.

[FR Doc. 2023-02493 Filed 2-6-23; 8:45 am]

BILLING CODE 4140-01-P